DEPARTMENT OF THE INTERIOR

National Park Service

Draft Special Resource Study/Environmental Assessment for Carter G. Woodson Home, Washington, DC; Notice of Availability

SUMMARY: Pursuant to section 102(2)(C) of the National Environmental Policy Act of 1969 (Pub. L. 91-190, as amended), the National Park Service is preparing an environmental assessment for the Special Study of the Carter G. Woodson Home.

The National Park Service has been directed, by an act of Congress, to conduct a special resource study to evaluate the potential for the future management and operation of the Carter G. Woodson Home and to determine what role or roles the Federal Government might assume here in the future.

Public Review: A 45-day public review period for comment on the draft document will begin after publication of this notice. In order to facilitate the review process, public reading copies of the document will be available at the following locations:

Watha T. Daniel Public Library, 1701 8th Street, NW., Washington, D.C. 20001-3111, 202-727-1228

National Capital Parks-East, 1900 Anacostia Drive, SE., Washington, D.C. 20020

National Park Service, National Capital Region, Office of Lands, Resources and Planning, Attention: Gail Cain, 1100 Ohio Drive, SW., Washington, D.C. 20242

A limited number of printed copies will be available on request by calling Ms. Gail Cain at 202-619-7025. The public may also obtain access to the document over the Internet at the following site: www.nps.gov/woodson.

A public meeting on the Special Resource Study of the Carter G. Woodson Home will be held July 25 at 6:30 at the Watha T. Daniel Public Library, 1701 8th Street, NW., Washington, DC, phone 202-727-1228. Those unable to attend may contact the National Park Service for further information and be put on our mailing list.

Written comments may be submitted to: Mr. John Parsons, Associate Regional Director, Lands, Resources and Planning, National Capital Region, National Park Service, 1100 Ohio Dr., SW., Washington, DC 20242 or e-mailed to john_parsons@nps.gov.

Decision Process: Notice of the availability of the Finding of No Significant Impact will be published in the Federal Register. The official responsible for the decision is the Regional Director, National Capital Region, National Park Service.

Terry R. Carlstrom,
Regional Director, National Capital Region.

[FR Doc. 01-17827 Filed 7-16-01; 8:45 am]

BILLING CODE 4310-70-P